ENVIRONMENTAL PROTECTION AGENCY

[FRL-6539-1]

Announcement Regarding Implementation of the Section 112(g) Program in the State of Connecticut and the Commonwealth of Massachusetts

AGENCY: Environmental Protection Agency.

ACTION: Notice.

SUMMARY: On September 23, 1998, the Environmental Protection Agency (EPA) announced in the Federal Register that it would implement section 112(g) of the Clean Air Act and the provisions of 40 CFR part 63, subpart B, in Connecticut and Massachusetts for one year starting on June 29, 1998. This program requires pre-construction permits reflecting case-by-case maximum achievable control technology (MACT) determinations for constructed or reconstructed major sources in source categories for which national emission standards for hazardous air pollutants (NESHAPs) have not yet been promulgated. With this document, EPA-New England announces that it will continue to implement the section 112(g) program for the State of Connecticut and the Commonwealth of Massachusetts until December 29, 2000, or the effective date of the state section 112(g) program, whichever is earlier. In each state, the state will issue pre-construction permits reflecting these requirements to the extent allowed by state law and subject to EPA's written concurrence. To the extent the state lacks authority to issue such permits, EPA will issue the case-by-case MACT determination.

FOR FURTHER INFORMATION CONTACT: For more information about the implementation of the Section 112(g) programs by Region I, please contact Susan Lancey, telephone (617) 918-1656 or E-mail lancey.susan@epa.gov, Office of Ecosystem Protection, One Congress Street, Suite 1100 (CAP) Boston, MA, 02114-2023.

SUPPLEMENTARY INFORMATION: The regulations regarding the implementation of section 112(g) of the Clean Air Act for constructed or reconstructed sources as well as guidance for the State permitting authorities are found in 40 CFR 63.40-63.44 (subpart B). The final rule was published in the Federal Register on December 27, 1996 (61 FR 68384). Subpart B requires State or local permitting agencies to implement the section 112(g) program promulgated in subpart B, or the State or local permitting authorities may request that EPA implement the program for that State or local agency for a limited period. As promulgated in 1996, the EPA regional office was allowed to implement the program for no more than one year from June 29, 1998. Under this provision, EPA-New England, Connecticut Department of Environmental Protection (CT DEP) and Massachusetts Department of Environmental Protection (MA DEP) agreed that EPA would implement the 112(g) program for this limited period as announced in the Federal Register on September 23, 1998. Subsequently, on June 30, 1999 (64 FR 35029), EPA amended the rule by providing a longer time period (up to 30 months) during which the EPA Regional Administrator may determine MACT emission limitations on a case-by-case basis, if the permitting authority has not yet established procedures requiring MACT on constructed or reconstructed major sources. With this document, EPA-New England, CT DEP and MA DEP extend the period under which the regional office will implement this program. Effective on June 29, 1998, no person may construct or reconstruct any major source of HAP in Massachusetts and Connecticut for which no applicable NESHAP has been promulgated unless that person applies for and obtains a Notice of MACT approval under the procedures set forth in 40 CFR 63.43 (f)-(h). The application should be submitted to EPA-New England at the address given above and to the appropriate state office.

In Connecticut, where the CT DEP has the authority to issue a pre-construction permit to a constructed or reconstructed source under the Regulations of Connecticut State Agencies (RSCA), CT DEP will issue the Notice of MACT approval to those subject sources after EPA concurs in writing on the MACT determination. Where existing authority under Connecticut regulations does not provide for such determinations, EPA-New England will issue the Notice of MACT approval.

In Massachusetts, where the MA DEP has the authority to issue a pre-construction permit to a constructed or reconstructed source under Massachusetts regulations, Plan Approval 310 CMR 7.02(2), MA DEP will issue the Notice of MACT approval to those subject sources after EPA concurs in writing on the MACT determination. Where existing authority under Massachusetts regulations does not provide for such determinations, EPA-New England will issue the Notice of MACT approval.

To apply for and obtain a Notice of MACT approval from the EPA regional office, any source subject to subpart B must fulfill the following requirements. First, the constructed or reconstructed major source must recommend a MACT emission limitation or requirement that must not be less stringent than the emission control which is achieved in practice by the best controlled similar source (section 63.43(d)(1)). The recommended MACT emission limitation must achieve the maximum degree of reduction in emissions of HAP which can be achieved by utilizing the recommended control techniques. The recommended MACT emission limitation must consider the non-air quality health and environmental impacts as well as the associated energy requirements (section 63.43(d)(2)). Furthermore, the constructed or reconstructed major source may recommend a specific design, equipment, or work practice standard, and EPA may approve such a standard, if it determines that it is not feasible to prescribe or enforce an emission limitation under section 112(h)(2) of the Clean Air Act (section 63.43(d)(3)). Finally, if the EPA has proposed a relevant emission standard through either section 112(d) or section 112(h) of the Clean Air Act or adopted a presumptive MACT for the relevant source category, then the MACT requirements applied to the constructed or reconstructed major source must take into consideration those MACT emission limitations and requirements of the proposed standards or presumptive MACT determination (section 63.43(d)(4)).

In reviewing and approving any application for a Notice of MACT approval, EPA will utilize the procedures set forth in 40 CFR 63.43 (f)-(h).

Dated: February 3, 2000.
Mindy S. Lubber,
Acting Regional Administrator, EPA-New England.

[FR Doc. 00-3853 Filed 2-16-00; 8:45 am]

BILLING CODE 6560-50-P